FEDERAL MARITIME COMMISSION

Ocean Transportation Intermediary License Rescission of Order of Revocation

The Commission gives notice that it has rescinded its Order revoking the following license pursuant to section 40901 of the Shipping Act of 1984 (46 U.S.C. 40101).

License No.: 003135F.

Name: N & N Safeway Shipping Company.

Address: 871 E. Artesia Blvd., Carson, CA 90746.

Order Published: December 6, 2012 (Volume 77, No. 235, Pg. 72863)

Vern W. Hill,
Director, Bureau of Certification and Licensing.

[FR Doc. 2013-00826 Filed 1-15-13; 8:45 am]

BILLING CODE 6730-01-P